DEPARTMENT OF JUSTICE

Drug Enforcement Administration

Agency Information Collection Activities: Proposed Collection; Comment Request

ACTION: Notice of information collection under review; extension of a currently approved collection: Collection of Laboratory Analysis Data on Drug Samples Tested by Non-Federal (State and Local Government) Crime Laboratories.

This proposed information collection is published to obtain comments from the public and affected agencies. Comments are encouraged and will be accepted until July 17, 2000. Written comments and suggestions are requested from the public and affected agencies concerning the proposed collection of information.

Your comments should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

If you have comments, suggestions, or need a copy of the proposed information collection instrument with instructions, if applicable, or additional information, please contact Frank L. Sapienza, Chief, Drug & Chemical Evaluation Section, Office of Diversion Control, Drug Enforcement Administration, Washington, DC 20537, Telephone (202) 307-7183.

Overview of this information collection:

(1) Type of information collection: Extension of a currently approved collection.

(2) The title of the form/collection: Collection of Laboratory Analysis Data on Drug Samples Tested by Non-Federal (State and Local Government) Crime Laboratories.

(3) The agency form number, if any, and the applicable component of the Department sponsoring the collection:

Form No.: None.

Applicable component of the Department sponsoring the collection: Office of Diversion Control, Drug Enforcement Administration, U.S. Department of Justice.

(4) Affected public who will be asked or required to respond, as well as a brief abstract: Primary: Regulatory or Compliance.

Other: Research.

Abstract: Information is needed from state and local laboratories to provide DEA with additional analyzed drug information for the National Forensic Laboratory Information System.

(5) An estimate of the total number of respondents and the amount of time estimated for an average respondent to respond/reply: 100 respondents; 1200 responses per year × .25 hours per response = 300 hrs.

(6) An estimate of the total public burden (in hours) associated with the collection: 300 annual burden hours; 100 respondents × 3 hours per respondent per year.

If additional information is required contact: Mr. Robert B. Briggs, Clearance Officer, United States Department of Justice, Information Management and Security Staff, Justice Management Division, Suite 1221, National Place Building, 1331 Pennsylvania Ave., NW., Washington, DC 20530.

Dated: May 9, 2000.
Robert B. Briggs,
Department Clearance Officer, United States Department of Justice.

[FR Doc. 00-12251 Filed 5-15-00; 8:45 am]

BILLING CODE 4410-09-M